DEPARTMENT OF TRANSPORTATION

Federal Motor Carrier Safety Administration

[Docket No. FMCSA-2019-0056]

Hours of Service of Drivers: R.J. Corman Railroad Services, Cranemasters, Inc., and National Railroad Construction and Maintenance Association, Inc.

AGENCY: Federal Motor Carrier Safety Administration (FMCSA), DOT.

ACTION: Notice of final disposition; renewal of exemption.

SUMMARY: FMCSA announces its final decision to renew the exemption granted to R.J. Corman Railroad Services (R.J. Corman), Cranemasters, Inc. (Cranemasters), and the National Railroad Construction and Maintenance Association Inc. (NRC) from the prohibition against driving a property-carrying commercial motor vehicle (CMV) beyond the 14th hour after coming on duty and driving after accumulating 60 hours of on-duty time in 7 consecutive days, or 70 hours of on-duty time in 8 consecutive days. The exemption renewal is applicable to employees of R.J. Corman and Cranemasters operating CMVs in response to unplanned events that occur outside of, or extend beyond, the subject employees' normal work hours. FMCSA has analyzed the exemption application and the public comments and has determined that the exemption renewal, subject to the terms and conditions set forth below, is likely to achieve a level of safety that is equivalent to or greater than the level that would be achieved in the absence of the exemption.

DATES: The exemption is effective March 4, 2025, and expires on March 4, 2030.

FOR FURTHER INFORMATION CONTACT: Bernadette Walker, Driver and Carrier Operations Division; Office of Carrier, Driver and Vehicle Safety Standards; FMCSA; (202) 385-2415; Bernadette.walker@dot.gov. If you have questions on viewing or submitting material to the docket, contact Dockets Operations, (202) 366-9826.

SUPPLEMENTARY INFORMATION:

I. Public Participation

Viewing Comments and Documents

To view any documents mentioned as being available in the docket, go to https://www.regulations.gov/docket/FMCSA-2019-0056/document and choose the document to review. To view comments, click this notice, then click “Browse Comments.” If you do not have access to the internet, you may view the docket online by visiting Dockets Operations on the ground floor of the DOT West Building, 1200 New Jersey Avenue SE, Washington, DC 20590, between 9 a.m. and 5 p.m., Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations (FMCSRs). FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely achieve a level of safety equivalent to, or greater than, the level that would be achieved absent such exemption, pursuant to the standard set forth in 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Background

Current Regulatory Requirements

Under 49 CFR 395.3(a)(2), drivers are prohibited from driving after a period of 14 consecutive hours after coming on-duty following 10 consecutive hours off-duty.

Under 49 CFR 395.3(b)(1), drivers are prohibited from operating a CMV for any period after having been on duty 60 hours in any period of 7 consecutive days if the employing motor carrier does not operate CMVs every day of the week. Under 49 CFR 395.3(b)(2), drivers are prohibited from operating a CMV for any period after having been on duty 70 hours in any period of 8 consecutive days if the employing motor carrier does operate CMVs every day of the week.

Applicants' Request

The application for exemption was described in detail in a Federal Register notice on March 10, 2025 (90 FR 11642) and will not be repeated here as the facts have not changed.

IV. Public Comments

The Agency received ten comments. Of the ten comments, seven supported granting the exemption, two opposed it, and one was neither for nor against the exemption.

Of the seven comments supporting the exemption, one was from an anonymous individual and six were from associations: Kentuckians for Better Transportation, Mississippi Railroad Association, Alabama Railway Association, Railroads of New York, Inc., Ohio Railroad Association, Texas Shortline and Regional Railroad Association. The Mississippi Railroad Association commented, “This exemption will help our rail network continue to function and provide critical connectivity for our state's manufacturers, agricultural producers, and consumers.” The other railroad associations all filed similar comments, pointing out the irregular nature of rail incidents and stating that most of the affected drivers only travel short distances to incident sites. The anonymous commenter supported the exemption because it recognizes “the need to be able to remove roadblocks that could cause derailments and damage to the property surrounding the railroad tracks,” including hazardous leakage and toxic chemical releases.

The American Academy of Sleep Medicine opposed the exemption, stating “While adherence to Federal Motor Carrier Safety Administration regulations may be operationally challenging, exemptions to these rules subject drivers and the public to avoidable safety risks.” E. Irizarry commented, “I respectfully request FMCSA consider the broader implications of this exemption and explore a more inclusive, consistent framework that takes into account the unforeseen and uncontrollable delays faced by truck drivers every day.”

One anonymous commenter noted his general support for “less hours for truck drivers so that they aren't overworked and underpaid [sic].”

V. FMCSA Decision

The Agency has reviewed the application, comments to the docket, and R.J. Corman's and Cranemaster's safety records. FMCSA believes there is a public interest in providing the applicants with reasonable flexibility to address urgent situations that disrupt rail services. The relief is limited to the trip to the scene of the unplanned event; drivers will record working time at the scene as on-duty, non-driving time; and drivers will get the requisite rest before driving on a public road post-incident. Because such events happen only occasionally and not during a predictable number of times per week or per month, drivers would not operate CMVs after the 14th hour of coming on duty as a regular part of their schedules. Drivers would not regularly operate CMVs after accumulating 60 hours or 70 hours of on-duty time during seven or eight consecutive days. Drivers' standard schedules would include adherence to the 14-hour rule and adherence to the 60- and 70-hour rules.

FMCSA is unaware of any evidence of a degradation of safety attributable to the current exemption. The applicants asserted that they have operated safely without incident since the initial exemption grant. FMCSA therefore concludes that renewing the exemption for another five years, under the terms and conditions set forth below, will likely achieve a level of safety that is equivalent to, or greater than, the level of safety that would be achieved absent the exemption.

VI. Exemption

FMCSA grants an exemption for a period of five years subject to the terms and conditions of this decision. The exemption from the requirements of 49 CFR 395.3(a)(2), 49 CFR 395.3(b)(1), and 49 CFR 395.3(b)(2) is effective from March 4, 2025, through March 4, 2030, 11:59 p.m. local time.

A. Applicability of Exemption

This exemption is restricted to individuals employed by R.J. Corman and Cranemasters while driving CMVs to the site of an “unplanned event” which includes the following:

• a derailment;

• a rail failure or other report of a dangerous track condition;

• a track occupancy light;

• a disruption to the electric propulsion system;

• a bridge-strike;

• a disabled vehicle on the train tracks;

• a train collision;

• weather- and storm-related events, including fallen trees and other debris on the tracks, snow, extreme cold or heat, rock and mud slides, track washouts, and earthquakes; and

• a matter concerning national security or public safety, including a blocked grade crossing.

B. Terms and Conditions

1. When operating under this exemption, drivers:

• May extend the 14-hour duty period in 49 CFR 395.3(a)(2) to no more than 17 hours;

• May not exceed 11 hours of driving time, following 10 consecutive hours off duty;

• May extend the 60- and 70-hour rule in 49 CFR 395.3(b) by no more than 6 hours; and

• May not travel more than 300 air miles from the normal work-reporting location or terminal.

2. Drivers must comply with the applicable HOS limits after arriving at the site and drivers must record all time working to restore rail service as on duty, not driving time.

3. Drivers may take advantage of the Agency's personal conveyance regulatory guidance when traveling between the unplanned event work site and nearby lodging or dining facilities (June 7, 2018; 83 FR 26377). If that guidance is not applicable to the trip, CMV drivers who have reached the HOS limits must be transported from the work site by an individual who has not reached the HOS limits or use a vehicle that does not meet FMCSA's definition of a CMV (49 CFR 390.5) when they leave the site.

4. Drivers must complete the Driver Education Module 3 and the Driver Sleep Disorders and Management Module 8 of the North American Fatigue Management Program (NAFMP) (www.nafmp.org) prior to operating under the exemption; and

5. Motor carriers and drivers must comply with all other provisions of the Federal Motor Carrier Safety Regulations.

C. Preemption

In accordance with 49 U.S.C. 31315(d), as implemented by 49 CFR 381.600, during the period this exemption is in effect, no State shall enforce any law or regulation applicable to interstate commerce that conflicts with or is inconsistent with this exemption with respect to a firm or person operating under the exemption. States may, but are not required to, adopt the same exemption with respect to operations in intrastate commerce.

D. Notification to FMCSA

R.J. Corman and Cranemasters must notify FMCSA within five business days of any crash (as defined in 49 CFR 390.5) involving any of their CMVs operating under the terms of the exemption. The notification must include the following information:

1. Identity of Exemption: “R.J. Corman/Cranemasters”;

2. Name of operating carrier and USDOT number;

3. Date of the crash;

4. City or town, and State, in which the accident occurred, or closest to the accident occurred, or closest to the crash scene;

5. Driver's name and license number;

6. Co-driver's name (if any) and license number;

7. Vehicle number and State license number;

8. Number of individuals suffering physical injury;

9. Number of fatalities;

10. The police-reported cause of the crash, if provided by the enforcement agency;

11. Whether the driver was cited for violation of any traffic laws or motor carrier safety regulations; and

12. The total on-duty time accumulated during the 7 consecutive days prior to the date of the crash, and the total on-duty time and driving time in the work shift prior to the crash. R.J. Corman and Cranemasters must provide a copy of the driver's records of duty status for the day of the crash and the prior 7 days upon request.

Reports filed under this provision shall be emailed to MCPSD@DOT.GOV.

E. Termination

FMCSA does not believe the drivers covered by this exemption will experience any deterioration of their safety record. However, the exemption will be rescinded if (1) R.J Corman, Cranemasters, or the drivers operating under the exemption fail to comply with the terms and conditions of the exemption; (2) the exemption has resulted in a lower level of safety than was maintained before it was granted; or (3) continuation of the exemption would not be consistent with the goals and objects of 49 U.S.C. 31136(e) and 31315(b).

Interested parties possessing information that would otherwise show that the exemption has resulted in a lower level of safety than what would be observed absent the exemptions should immediately notify FMCSA at MCPSD@dot.gov. The Agency will evaluate any information submitted and, if safety is being compromised or if the continuation of this exemption is inconsistent with 49 U.S.C. 31315(b)(4), FMCSA will immediately take steps to revoke the exemption.

Sue Lawless,
Assistant Administrator.

[FR Doc. 2025-13961 Filed 7-23-25; 8:45 am]

BILLING CODE 4910-EX-P